DEPARTMENT OF JUSTICE

Office of Justice Programs

[OJP (NIJ) Docket No. 1578]

Request for Proposals for Certification and Testing Expertise for the Ballistic Resistance of Personal Body Armor (2008) Standard

AGENCY: National Institute of Justice, Department of Justice.

ACTION: Request for Proposals for Certification and Testing Expertise.

SUMMARY: The National Institute of Justice (NIJ) is in the process of revising its Ballistic Resistance of Personal Body Armor (2008) Standard and corresponding certification program requirements. This work will be performed by a Special Technical Committee (STC), comprised of practitioners from the field, researchers, testing experts, certification experts, and representatives from stakeholder organizations. It is anticipated that the STC members will participate in up to fifteen 2-day meetings over an 18-month time period with the goal of completing development of the standard and certification program requirements.

It is anticipated that STC meetings will begin in March 2012. Travel expenses and per diem will be reimbursed for all STC meetings; however, participation time will not be funded. NIJ is seeking representatives from (1) certification bodies and (2) test laboratories with experience in programs for similar types of ballistic-resistant personal protective equipment. Additional preferred knowledge includes experience with law enforcement and corrections operations. There are up to four positions to be filled on the STC, and NIJ will accept the first 20 submissions for peer review. Interested parties should nominate individuals from their organizations and submit an application describing the nominee's relevant experience, preferred knowledge, and affiliations with standards development organizations. To be considered, there must not be any conflict of interest in which the proposed STC member has a direct financial relationship with manufacturers of ballistic-resistant armor.

Debra Stoe is the NIJ Program Manager responsible for this work, and Casandra Robinson is the point of contact for Ms. Stoe. Interested parties must contact Casandra Robinson at casandra.robinson@usdoj.gov to request further information on what must be submitted. Any submissions must be emailed to Casandra Robinson by January 20, 2012. The submissions will be peer reviewed, and selected participants will be notified regarding the results of the peer review by February 6, 2012.

FOR FURTHER INFORMATION CONTACT: Casandra Robinson by telephone at (202) 305-2596 [Note: this is not a toll-free telephone number] or by email at casandra.robinson@usdoj.gov.

DATES: Any submissions must be emailed to Casandra Robinson by January 20, 2012. The submissions will be peer reviewed, and selected participants will be notified regarding the results of the peer review by February 6, 2012.

John H. Laub,
Director, National Institute of Justice.

[FR Doc. 2012-66 Filed 1-5-12; 8:45 am]

BILLING CODE 4410-18-P